SURFACE TRANSPORTATION BOARD

[Docket No. FD 36234]

North Central Mississippi Regional Railroad Authority—Continuance in Control Exemption

AGENCY: Surface Transportation Board.

ACTION: Notice of exemption.

SUMMARY: The Board is granting an exemption under 49 U.S.C. 10502 from the prior approval requirements of 49 U.S.C. 11323-25 for North Central Mississippi Regional Railroad Authority (NCMRRA), a noncarrier, to continue in control of Grenada Railway, LLC (GRYR), a Class III carrier owned and controlled by NCMRRA, when NCMRRA becomes a Class III rail carrier in a related transaction involving its acquisition of a 21.7-mile rail line in Holmes and Attala Counties, Miss., currently owned by the Mississippi Department of Transportation.¹ After the consummation of the acquisition transaction, NCMRRA and GRYR will exist as separately managed and maintained entities within the same corporate family, and will connect at or near Aberdeen Junction, Miss. Because all of the carriers involved are Class III carriers, the continuance-in-control exemption is not subject to labor protective conditions.

¹ See N. Cent. Miss. Reg'l R.R. Auth.—Acquis. & Operation Exemption—Miss. Dep't of Transp., FD 36182 (STB served Nov. 20, 2018).

DATES: This exemption will be effective on December 4, 2018. Petitions to stay must be filed by November 27, 2018. Petitions to reopen must be filed by December 10, 2018.

ADDRESSES: Send an original and 10 copies of all pleadings, referring to Docket No. FD 36234, to: Surface Transportation Board, 395 E Street SW, Washington, DC 20423-0001. In addition, one copy of each pleading must be served on William A. Mullins, Baker & Miller PLLC, 2401 Pennsylvania Avenue NW, Suite 300, Washington, DC 20037.

FOR FURTHER INFORMATION CONTACT: Sarah Fancher, (202) 245-0355. Federal Information Relay Service (FIRS) for the hearing impaired: (800) 877-8339.

SUPPLEMENTARY INFORMATION: Additional information is contained in the Board's decision served on November 20, 2018, which is available on our website, www.stb.gov.

Decided: November 15, 2018.
By the Board, Board Members Begeman and Miller.
Brendetta Jones,
Clearance Clerk.

[FR Doc. 2018-25318 Filed 11-19-18; 8:45 am]

BILLING CODE 4915-01-P